DEPARTMENT OF AGRICULTURE

Economic Research Service

Agency Information Collection Activities; Comment Request

AGENCY: Economic Research Service (ERS), US Department of Agriculture (USDA).

ACTION: Notice of intent to request renewal of currently approved information collection; request to comment.

SUMMARY: In accordance with the Paperwork Reduction Act of 1995, (Pub. L. 104-12), this notice announces the intention of the Economic Research Service (ERS) to request extension of a currently approved information collection, the Generic Clearance for Survey Research Studies, OMB Number 0536-0073.

DATES: Written comments on this notice must be received by February 18, 2025 to be assured of consideration. Comments received after that date will be considered to the extent practicable. Send comments to the address below.

ADDRESSES: Address all comments concerning this notice to julie.parker3@usda.gov and ers.pra@usda.gov identified by docket number 0536-0073.

FOR FURTHER INFORMATION CONTACT: Requests for additional information or copies of this information collection should be directed to Julie Parker at julie.parker3@usda.gov or 202-868-7945.

SUPPLEMENTARY INFORMATION:

Title of collection: Generic Clearance for Survey Research Studies.

OMB Control Number: 0536-0073.

Expiration Date of Approval: April 30, 2025.

Type of Request: Intent to Seek Approval to Extend an Information Collection for 3 Years.

Abstract: In accordance with the Paperwork Reduction Act of 1995 (Pub. L. 104-13) and OMB regulations at 5 CFR part 1320 (60 FR 44978, August 29, 1995), this notice announces the ERS' intention to request renewal of approval from the Office of Management and Budget (OMB) for a generic clearance that will allow ERS to rigorously develop, test, and evaluate its survey methodologies, instruments, and administration. The mission of ERS is to provide economic and other social science information and analysis for public and private decisions on agriculture, food, natural resources, and rural America. This request is part of an on-going initiative to improve ERS data product quality, as recommended by both its own guidelines and those of OMB. The purpose of this generic clearance is to allow ERS to evaluate, adopt, and use state-of-the-art and multi-disciplinary research to improve and enhance the quality of its current data collections. This clearance will also be used to aid in the development of new surveys. It will help to ensure that requested data can be provided in the desired format, reporting burden (time and financial resources) is minimized, collection instruments are clearly understood, and the impact of collection requirements on respondents can be properly assessed. ERS envisions using a variety of survey improvement techniques, as appropriate to the individual project under investigation. These include focus groups, market analysis, cognitive and usability laboratory and field techniques, exploratory interviews, behavior coding, and respondent debriefing. Following standard OMB requirements, ERS will inform OMB individually in writing of the purpose, scope, time frame, and number of burden hours used for each survey improvement or development project it undertakes under this generic clearance. ERS will also provide OMB with a copy of the data collection instrument (if applicable), and all other materials describing the project.

Authority: These data will be collected under the authority of US Code (U.S.C.) 7 U.S.C. 2204(a) General duties of Secretary, advisory functions, research and development and 7 U.S.C 6971, Under Secretary of Agriculture for Research, Education, and Economics, as implemented under the Code of Federal Regulations (CFR) 7 CFR 2.21 which delegates to the Under Secretary, as Chief Scientist, the responsibility for agricultural systems and technology, including emerging agricultural research, education, and extension needs. The data collected are for nonstatistical purposes and not for public dissemination. ERS intends to protect respondent information under the Privacy Act of 1974, Section 1770 of the Food Security Act of 1985, and 7 U.S.C. 2276.

Estimate of Burden: Public reporting burden for these collections of information is estimated to average from .5 to 2 hours per respondent, depending upon the information collection and the technique used to test for that particular collection.

Respondents: Individuals or households, farms, and businesses or other for-profits.

Estimated Number of Annual Respondents: 1,815.

Estimated Total Annual Burden on Respondents: 3,630 hours.

Comments: Comments are invited on (a) whether the proposed collection of information is necessary for the proper performance of the functions of ERS, including whether the information will have practical utility; (b) the accuracy of ERS's estimate of the burden of the proposed collection of information; (c) ways to enhance the quality, use, and clarity of the information for respondents, including through the use of automated collection techniques or other forms of information technology; and (d) ways to minimize the burden of the collection of information on those who are to respond, including through the use of appropriate automated, electronic, mechanical, or other technological collection techniques or other forms of information technology.

Spiro Stefanou,
Administrator, Economic Research Service, United States Department of Agriculture.

[FR Doc. 2024-30217 Filed 12-18-24; 8:45 am]

BILLING CODE 3410-18-P